GENERAL SERVICES ADMINISTRATION

41 CFR Part 102-192

Federal Management Regulation; Technical Amendments

AGENCY: Office of Governmentwide Policy, GSA.

ACTION: Correction and technical amendment to final rule.

SUMMARY: This document makes amendments to the Federal Management Regulation (FMR) in order to correct references and make a technical amendment to the mail management regulations of the FMR.

DATES: Effective Date: August 21, 2002.

FOR FURTHER INFORMATION CONTACT: Laurie Duarte, Regulatory Secretariat, Acquisition Policy Division (MVP), General Services Administration, 1800 F Street, NW., Washington, DC 20405, (202) 208-7312.

List of Subjects in 41 CFR Part 102-192

Government contracts, Intergovernmental relations, Reporting and recordkeeping requirements, Security measurements.

Therefore, GSA amends 41 CFR part 102-192 as set forth below:

PART 102-192—MAIL MANAGEMENT

1. The authority citation for 41 CFR part 102-192 continues to read as follows:

Authority: Sec. 2, Pub. L. 94-575, as amended, 44 U.S.C. 2904; 40 U.S.C. 486(c); Sec. 205(c), 63 Stat. 390.

§ 102-192.55 [Amended]

2. Redesignate § 192.55 as § 102-192.55.

§ 102-192.125 [Amended]

3. Amend § 102-192.125 in the introductory text by removing “§ 192.50” and adding “§ 102-192.50” in its place and in paragraph (e) by removing “(see subpart C) of this part;” and adding “(see subpart C of this part);” in its place.

Dated: August 13, 2002.
Laurie Duarte,
Regulatory Secretariat, Acquisition Policy Division.

[FR Doc. 02-21076 Filed 8-20-02; 8:45 am]

BILLING CODE 6820-24-P